DEPARTMENT OF ENERGY

Federal Energy Regulatory Commission

Combined Notice of Filings #1

July 27, 2005.

Take notice that the Commission received the following electric rate filings.

Docket Numbers: ER00-826-004; ER00-828-004; ER98-421-015; ER98-4055-012; ER01-1337-007; ER96-2504-012; ER02-177-008; ER96-2506-010; ER03-1212-006.

Applicants: Brownsville Power I, L.L.C.; Caledonia Power I, L.L.C.; CinCap IV, LLC; CinCap V, LLC; Cinergy Capital &Trading, Inc.; Cincinnati Gas & Electric Co.; Cinergy Power Investments, Inc.; PSI Energy, Inc.; St. Paul Cogeneration, LLC.

Description: Brownsville Power I, L.L.C.; Caledonia Power I, L.L.C., CinCap IV, LLC; CinCap V, LLC; Cinergy Capital & Trading, Inc.; Cincinnati Gas & Electric Co.; Cinergy Power Investments, Inc.; St. Paul Cogeneration, LLC, submit revised market-based rate tariffs, in compliance with the Commission's order issued 7/15/05 in Docket No. ER00-836-002, et al.

Filed Date: 07/21/2005.

Accession Number: 20050726-0010.

Comment Date: 5 p.m. eastern time on Thursday, August 11, 2005.

Docket Numbers: ER00-2887-004.

Applicants: Newark Bay Cogeneration Partnership L.P.

Description: Newark Bay Cogeneration Partnership, L.P. supplements its 7/15/05 compliance filing and submits its First Revised Sheet Nos. 1 and 2 to its FERC Electric Tariff, Second Revised Volume No. 1.

Filed Date: 07/22/2005.

Accession Number: 20050726-0152.

Comment Date: 5 p.m. eastern time on Friday, August 12, 2005.

Docket Numbers: ER05-853-002.

Applicants: San Diego Gas & Electric Company.

Description: San Diego Gas & Electric Company submits revised tariff sheets to its FERC Electric Tariff, Original Volume 11, in compliance with the Commission's order issued 6/20/05, 111 FERC ¶ 61,426.

Filed Date: 07/21/2005.

Accession Number: 20050726-0003.

Comment Date: 5 p.m. eastern time on Thursday, August 11, 2005.

Docket Numbers: ER05-1217-001.

Applicants: Black Hills Power, Inc.; Powder River Energy Corporation.

Description: Black Hills Power, Inc & Powder River Energy Corporation submit a corrected version of the revised Attachment H to their joint open access transmission tariff, originally filed on 7/15/05.

Filed Date: 07/22/2005.

Accession Number: 20050726-0009.

Comment Date: 5 p.m. eastern time on Friday, August 12, 2005.

Docket Numbers: ER05-1218-001.

Applicants: Bayonne Plant Holding, L.L.C.

Description: Bayonne Plant Holding, L.L.C. submits a supplement to its compliance filing submitted on 7/15/05 and submits First Revised Sheet Nos. 1 and 2 to its FERC Gas Tariff, Second Revised Volume No. 1.

Filed Date: 07/22/2005.

Accession Number: 20050726-0259.

Comment Date: 5 p.m. eastern time on Friday, August 12, 2005.

Docket Numbers: ER05-1219-001.

Applicants: Camden Plant Holding, L.L.C.

Description: Camden Plant Holding, L.L.C. submits a supplement to its compliance filing submitted on 7/15/05 and submits First Revised Sheet Nos. 1 and 2 to its FERC Electric Tariff, Second Revised Volume No. 1.

Filed Date: 07/22/2005.

Accession Number: 20050726-0260.

Comment Date: 5 p.m. eastern time on Friday, August 12, 2005.

Docket Numbers: ER05-1232-000.

Applicants: JPMorgan Ventures Energy Corporation.

Description: JPMorgan Ventures Energy Corporation submits an application requesting Commission acceptance of its Rate Schedule FERC No. 1; the granting of certain blanket approvals; and the waiver of certain Commission regulations.

Filed Date: 07/22/2005.

Accession Number: 20050726-0033.

Comment Date: 5 p.m. eastern time on Friday, August 12, 2005.

Docket Numbers: ER05-1233-000; ER05-1234-000.

Applicants: MidAmerican Energy Company; PacifiCorp.

Description: MidAmerican Energy Company and PacifiCorp submit pro-forma revised tariff sheets for each company's open access transmission tariff.

Filed Date: 07/22/2005.

Accession Number: 20050726-0031.

Comment Date: 5 p.m. eastern time on Friday, August 12, 2005.

Docket Numbers: ER05-1235-000.

Applicants: MidAmerican Energy Company.

Description: MidAmerican Energy Company submits proposed revisions to its Open Access Transmission Tariff to implement its proposal to contract with an independent third party to administer various OATT-related functions.

Filed Date: 07/22/2005.

Accession Number: 20050726-0012.

Comment Date: 5 p.m. eastern time on Friday, August 12, 2005.

Docket Numbers: ER05-1236-000.

Applicants: Duke Power, a division of Duke Energy Corporation.

Description: Duke Power, a division of Duke Energy Corporation submits proposed revisions to its Open Access Transmission Tariff FERC Electric Tariff, Volume No. 4 regarding its proposal to institute an independent transmission coordinator for performing certain OATT related functions.

Filed Date: 07/22/2005.

Accession Number: 20050726-0013.

Comment Date: 5 p.m. eastern time on Friday, August 12, 2005.

Docket Numbers: ER05-1237-000.

Applicants: PJM Interconnection, L.L.C.

Description: PJM Interconnection LLC submits an executed interconnection service agreement among PJM, Baileyville WindFarm L.L.C and Commonwealth Edison Company.

Filed Date: 07/22/2005.

Accession Number: 20050726-0014.

Comment Date: 5 p.m. eastern time on Friday, August 12, 2005.

Docket Numbers: ER05-1238-000.

Applicants: MidAmerican Energy Company.

Description: MidAmerican Energy Company submits a first revised Interconnection Agreement with Indianola Municipal Utilities.

Filed Date: 07/22/2005.

Accession Number: 20050726-0261.

Comment Date: 5 p.m. eastern time on Friday, August 12, 2005.

Docket Numbers: ER05-1239-000.

Applicants: TPS Dell, LLC.

Description: TPS Dell, LLC submits notice of cancellation of its market-based electric tariff effective 7/22/05.

Filed Date: 07/22/2005.

Accession Number: 20050726-0262.

Comment Date: 5 p.m. eastern time on Friday, August 12, 2005.

Docket Numbers: ER05-1240-000.

Applicants: TPS McAdams, LLC.

Description: TPS McAdams, LLC submits a notice of cancellation of its market-based electric tariff effective 7/22/05.

Filed Date: 07/22/2005.

Accession Number: 20050726-0264.

Comment Date: 5 p.m. eastern time on Friday, August 12, 2005.

Docket Numbers: ER05-1241-000.

Applicants: Montaup Electric Company.

Description: New England Power Co, successor in interest to Montaup Electric Company (Montaup), submits notice of cancellation of Rate Schedule 107, an agreement between Montaup and MASSPOWER, a Massachusetts general partnership, concerning transmission service.

Filed Date: 07/22/2005.

Accession Number: 20050726-0265.

Comment Date: 5 p.m. eastern time on Friday, August 12, 2005.

Docket Numbers: ER05-1242-000.

Applicants: Fitchburg Gas and Electric Light Company.

Description: Fitchburg Gas and Electric Light Company submits the data & schedules used to calculate its annual transmission revenue requirement for non-PTF local network transmission service, firm point-to-point transmission service and non-firm point-to-point transmission service for the period of 6/1/05 through 5/31/06.

Filed Date: 07/22/2005.

Accession Number: 20050726-0263.

Comment Date: 5 p.m. eastern time on Friday, August 12, 2005.

Docket Numbers: ER05-941-001.

Applicants: New York Independent System Operator, Inc.

Description: New York Independent System Operator, Inc. submits revised sheets to its open access transmission tariff & market administration and control area services tariff in compliance with the Commission's 7/1/05 Order, 112 FERC ¶ 61,004.

Filed Date: 07/22/2005.

Accession Number: 20050726-0258.

Comment Date: 5 p.m. eastern time on Friday, August 12, 2005.

Docket Numbers: ER91-569-028; EL04-123-003.

Applicants: Entergy Services, Inc.

Description: Notice of withdrawal of request for market-based rate authority in control area, intent to adopt cost-based rates and request to terminate hearing procedures of Entergy Services, Inc.

Filed Date: 07/22/2005.

Accession Number: 20050722-5059.

Comment Date: 5 p.m. eastern time on Friday, August 12, 2005.

Docket Numbers: ER99-2774-007; ER03-956-007.

Applicants: Duke Energy Trading and Marketing, L.L.C.; Duke Energy Marketing America, LLC.

Description: Duke Energy Trading and Marketing, L.L.C. and Duke Energy Marketing America, LLC submits a notice of a change in status concerning their market-based rate authority.

Filed Date: 07/20/2005, as amended on 7/25/2005.

Accession Number: 20050726-0007.

Comment Date: 5 p.m. eastern time on Wednesday, August 10, 2005.

Docket Numbers: ER99-830-011; ER04-925-003.

Applicants: Merrill Lynch Capital Services, Inc.; Merrill Lynch Commodities, Inc.

Description: Merrill Lynch Commodities, Inc. and Merrill Lynch Capital Services, Inc. submit a notice of change in status in compliance with the Commission's Order 652.

Filed Date: 07/20/2005.

Accession Number: 20050726-0004.

Comment Date: 5 p.m. eastern time on Wednesday, August 10, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Linda Mitry,
Deputy Secretary.

[FR Doc. E5-4113 Filed 8-1-05; 8:45 am]

BILLING CODE 6717-01-P